DEPARTMENT OF LABOR

Employment and Training Administration

Workforce Investment Act; Native American Employment and Training Council

AGENCY: Employment and Training Administration, U.S. Department of Labor (USDOL).

ACTION: Notice of meeting.

SUMMARY: Pursuant to Section 10 (a)(2) of the Federal Advisory Committee Act (FACA) (Pub. L. 92-463), as amended, and Section 166(h)(4) of the Workforce Investment Act (WIA) [29 U.S.C. 2911(h)(4)], notice is hereby given of the next meeting of the Native American Employment and Training Council (NAETC), as constituted under WIA.

DATES: The meeting will begin at 9 a.m. (Central Daylight Time) on Monday, November 17, 2008, and continue until 5 p.m. that day. The meeting will reconvene at 1 p.m. on Tuesday, November 18, 2008, and adjourn at 5 p.m. that day. The period from 2 p.m. to 4 p.m. on November 18, 2008, will be reserved for participation and presentations by members of the public.

ADDRESSES: The meetings will be held at the Hilton Omaha, 1001 Cast Street, Omaha, Nebraska 68102.

SUPPLEMENTARY INFORMATION: The meeting will be open to the public. Members of the public not present may submit a written statement on or before November 13, 2008, to be included in the record of the meeting. Statements are to be submitted to Ms. Evangeline M. Campbell, Designated Federal Official (DFO), U.S. Department of Labor, 200 Constitution Avenue, NW., Room S-4209, Washington, DC 20210. Persons who need special accommodations should contact Mr. Craig Lewis at (202) 693-3384, at least two business days before the meeting.

The formal agenda will focus on the following topics: (1) USDOL/ETA Strategic Plan; (2) USDOL/ETA Transition; (3) USDOL, Indian and Native American Program Introduction of Newly Appointed Council Members; (4) USDOL, Indian and Native American Program Update and Strategic Planning; (5) USDOL, Indian and Native American Program Training and Technical Assistant Grant; (6) NAETC Workgroup Reports; (7) USDOL, Indian and Native American Program Reallocation Training and Employment Letter; and (8) Council Recommendations.

FOR FURTHER INFORMATION CONTACT: Ms. Evangeline M. Campbell, DFO, Indian and Native American Programs, Em­ploy­ment and Train­ing Administration, U.S. Department of Labor, Room S-4209, 200 Constitution Avenue, NW., Washington, DC 20210. Telephone number (202) 693-3737 (VOICE) (this is not a toll-free number).

Signed at Washington, DC, this 28th day of October 2008.
Brent R. Orrell,
Deputy Assistant Secretary, Employment and Training Administration.

[FR Doc. E8-26208 Filed 10-31-08; 8:45 am]

BILLING CODE 4510-FN-P